FEDERAL COMMUNICATIONS COMMISSION

47 CFR Parts 9 and 64

[CG Docket Nos. 03-123 and 10-51; PS Docket Nos. 18-261 and 17-239; GN Docket No. 11-117; FCC 19-39, FCC 19-76 and FCC 20-7; FRS 17091]

Improving Video Relay Service and Direct Video Calling; Implementing Kari's Law and Section 506 of RAY BAUM'S Act; Inquiry Concerning 911 Access, Routing and Location in Enterprise Communications Systems; Amending the Definition of Interconnected VoIP Service; Video Relay Service Call Handling

AGENCY: Federal Communications Commission.

ACTION: Final rule; announcement of effective and compliance dates.

SUMMARY: In this document, the Commission announces that the Office of Management and Budget (OMB) has approved, for a period of three years, the information collection associated with rules adopted in the Commission's documents Structure and Practices of the Video Relay Service Program, et. al, Report and Orders, FCC 19-39 and FCC 20-7; and Implementing Kari's Law and Section 506 of RAY BAUM'S Act, et. al, Report and Order, FCC 19-76, (Orders) and that the associated new or modified rules are now required. This document is consistent with the Orders, which stated that the Commission would publish a document in the Federal Register announcing the effective and compliance dates of those rules.

DATES:

Effective date: The rule is effective October 23, 2020. The amendments to §§ 64.611, 64.613, and 64.615, published at 84 FR 26364, June 6, 2019, and §§ 64.604 and 64.606, published at 85 FR 27309, May 8, 2020, are effective October 23, 2020.

Compliance date: Compliance with §§ 9.14(d)(2)(ii)-(iii), 9.14(d)(2)(v), 9.14(d)(4), 9.14(e)(2)(ii), 9.14(e)(2)(iv), and 9.14(e)(4), published at 84 FR 66716, December 5, 2019, is required as of January 6, 2021, for fixed services, and January 6, 2022, for non-fixed services.

FOR FURTHER INFORMATION CONTACT: Michael Scott, Disability Rights Office, Consumer and Governmental Affairs Bureau, at (202) 418-1264, or email: Michael.Scott@fcc.gov; or Thomas Eng, Electronics Engineer, Policy and Licensing Division, Public Safety and Homeland Security Bureau, at (202) 418-0019, or email: Thomas.Eng@fcc.gov.

SUPPLEMENTARY INFORMATION: This document announces that, on August 31, 2020, OMB approved, for a period of three years, the information collection requirements contained in the Commission's Orders, FCC 19-39, published at 84 FR 26364, June 6, 2019; FCC 19-76, published at 84 FR 66716, December 5, 2019; and FCC 20-7, published at 85 FR 27309, May 8, 2020. The OMB Control Number is 3060-1089. The Commission publishes this notice as an announcement of the effective and compliance dates of the rules. If you have any comments on the burden estimates listed below, or how the Commission can improve the collections and reduce any burdens caused thereby, please contact Cathy Williams, Federal Communications Commission, Room 1-C823, 445 12th Street SW, Washington, DC 20554. Please include the OMB Control Number, 3060-1089, in your correspondence. The Commission will also accept your comments via the internet if you send them to PRA@fcc.gov.

To request materials in accessible formats for people with disabilities (Braille, large print, electronic files, audio format), send an email to fcc504@fcc.gov or call the Consumer and Governmental Affairs Bureau at (202) 418-0530 (voice) or (202) 418-0432 (TTY).

This document also removes § 9.14(f) of the Commission's rules, which advised that compliance with §§ 9.14(d)(2)(ii)-(iii), 9.14(d)(2)(v), 9.14(d)(4), 9.14(e)(2)(ii), 9.14(e)(2)(iv), and 9.14(e)(4), respectively, was not required until OMB approval of the information collection and recordkeeping requirements was obtained.

Synopsis

As required by the Paperwork Reduction Act of 1995 (44 U.S.C. 3507), the FCC is notifying the public that it received OMB approval on August 31, 2020, for the information collection requirements contained in the Commission's rules at §§ 9.14(d)(2)(ii)-(iii), 9.14(d)(2)(v), 9.14(d)(4), 9.14(e)(2)(ii), 9.14(e)(2)(iv), 9.14(e)(4), 64.604, 64.606, 64.611, 64.613, and 64.615.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1089.

The foregoing notice is required by the Paperwork Reduction Act of 1995, Public Law 104-13, October 1, 1995, and 44 U.S.C. 3507.

The total annual reporting burdens and costs for the respondents are as follows:

OMB Control Number: 3060-1089.

OMB Approval Date: August 31, 2020.

OMB Expiration Date: August 31, 2023.

Title: Structure and Practices of the Video Relay Service Program; Telecommunications Relay Services and Speech-to-Speech Services for Individuals with Hearing and Speech Disabilities, CG Docket Nos. 10-51 & 03-123.

Form Number: N/A.

Type of Review: Revision of a currently approved collection.

Respondents: Business or other for-profit entities; Individuals or households; Not-for-profit institutions; State, Local or Tribal Government.

Number of Respondents and Responses: 202,021 respondents; 1,846,406 responses.

Estimated Time per Response: .05 hours (3 minutes) to 300 hours.

Frequency of Response: Annual, monthly, on occasion, on-going, one-time, and quarterly reporting requirements; Recordkeeping requirement; and Third-Party Disclosure requirements.

Obligation to Respond: Required to obtain or retain benefits. The statutory authority for the collection is contained in section 225 of the Communications Act, 47 U.S.C. 225. The law was enacted on July 26, 1990, as Title IV of the Americans with Disabilities Act of 1990 (ADA), Public Law 101-336, 104 Stat. 327, 366-69, and amended by the Twenty-First Century Communications and Video Accessibility Act of 2010, Public Law 111-260, §103(a), 124 Stat. 2751, 2755 (2010) (CVAA); Public Law 111-265 (technical amendments to CVAA).

Total Annual Burden: 329,582 hours.

Total Annual Cost: $261,000.

Nature and Extent of Confidentiality: Confidentiality is an issue to the extent that individuals and households provide personally identifiable information, which is covered under the FCC's updated system of records notice (SORN), FCC/CGB-4, “Internet-based Telecommunications Relay Service-User Registration Database (ITRS-URD).” As required by the Privacy Act, 5 U.S.C. 552a, the Commission also published a SORN, FCC/CGB-4 “Internet-based Telecommunications Relay Service-User Registration Database (ITRS-URD),” in the Federal Register on February 9, 2015 (80 FR 6963) which became effective on March 23, 2015.

Privacy Impact Assessment: This information collection affects individuals or households. As required by the Office of Management and Budget Memorandum M-03-22 (September 26, 2003), the FCC is in the process of completing the Privacy Impact Assessment.

Needs and Uses: The telecommunications relay service (TRS) program enables access to the nation's telephone network by persons with hearing and speech disabilities. In 1991, as required by the Americans with Disabilities Act and codified at 47 U.S.C. 225, the Commission adopted rules governing the TRS program and procedures for each state TRS program to apply for initial Commission certification and renewal of Commission certification of each state program. Telecommunications Services for Individuals with Hearing and Speech Disabilities, and the Americans with Disabilities Act of 1990, Report and Order and Request for Comments, document FCC 91-213, published at 56 FR 36729, August 1, 1991 (1991 TRS Implementation Order).

Between 2008 and 2011, to integrate internet-based TRS into the North American Numbering plan and facilitate interoperability, universal calling, and 911 emergency services, the Commission adopted rules in three separate orders related to the telephone numbering system and enhanced 911 (E911) services for users of two forms of internet-based TRS: Video Relay Service (VRS) and Internet Protocol Relay service (IP Relay). See document FCC 08-151, Report and Order and Further Notice of Proposed Rulemaking, published at 73 FR 41286, July 18, 2008 (First Numbering Order); document FCC 08-275, Second Report and Order and Order on Reconsideration, published at 73 FR 79683, December 30, 2008 (Second Numbering Order); and document FCC 11-123, Report and Order, published at 76 FR 59551, September 27, 2011 (iTRS Toll Free Order).

The rules adopted in these three orders have information collection requirements that include requiring VRS and IP Relay providers to: Register each user who selects the provider as his or her default provider, including obtaining a self-certification from each user; verify the accuracy of each user's information; provision and maintain their registered users' routing information to the TRS Numbering Directory; place their users' Registered Location and certain callback information in Automatic Location Information (ALI) databases across the country and provide a means for their users to update their Registered Locations; include advisories on their websites and in any promotional materials addressing numbering and E911 services for VRS or IP Relay; verify in the TRS Numbering Directory whether each dial-around user is registered with another provider; and if they provide equipment to a consumer, make available to other VRS providers enough information about that equipment to enable another VRS provider selected as the consumer's default provider to perform all of the functions of a default provider.

On July 28, 2011, the Commission released Structure and Practices of the Video Relay Service Program, document FCC 11-118, published at 76 FR 47469, August 5, 2011, and at 76 FR 47476, August 5, 2011 (VRS Certification Order), adopting final and interim rules—designed to help prevent waste, fraud, and abuse, and ensure quality service, in the provision of internet-based forms of Telecommunications Relay Services (iTRS). On October 17, 2011, the Commission released Structure and Practices of the Video Relay Service Program, Memorandum Opinion and Order, Order, and Further Notice of Proposed Rulemaking, document FCC 11-155, published at 76 FR 67070, October 31, 2011 (VRS Certification Reconsideration Order), modifying two aspects of information collection requirements contained in the VRS Certification Order. On June 10, 2013, the Commission made permanent the interim rule adopted in the VRS Certification Order. Structure and Practices of the Video Relay Service Program; Telecommunications Relay Services and Speech-to-Speech Services for Individuals with Hearing and Speech Disabilities, Report and Order and Further Notice of Proposed Rulemaking, document FCC 13-82, published at 78 FR 40582, July 5, 2013 (2013 VRS Reform Order).

The VRS Certification Order as modified by the VRS Certification Reconsideration and, as applicable, made permanent by the 2013 VRS Reform Order, amended the Commission's process for certifying internet-based TRS (iTRS) providers as eligible for payment from the Interstate TRS Fund (Fund) for their provision of iTRS to ensure that iTRS providers receiving certification are qualified to provide iTRS in compliance with the Commission's rules and to eliminate waste, fraud and abuse through improved oversight of such providers. They contain information collection requirements including: Submission of detailed information in an application for certification that shows the applicant's ability to comply with the Commission's rules; submission of annual reports that include updates to the provider's information on file with the Commission or a certification that there are no changes to the information; requirements for a senior executive of an applicant for iTRS certification or an iTRS provider, when submitting an annual compliance report, to certify under penalty of perjury that all information required under the Commission's rules and orders has been provided and all statements of fact, as well as all documentation contained in the submission, are true, accurate, and complete; requirements for VRS providers to obtain prior authorization from the Commission for planned interruptions of service, to report to the Commission unforeseen interruptions of service, and to provide notification of temporary service outages, including updates, to consumers on their websites; and requirements for iTRS providers that will no longer be providing service to give their customers at least 30-days notice.

In the 2013 VRS Reform Order, the Commission also adopted further measures to improve the structure, efficiency, and quality of the video relay service (VRS) program, reducing the noted inefficiencies in the program, as well as reducing the risk of waste, fraud, and abuse, and ensuring that the program makes full use of advances in commercially-available technology. The Commission required reporting of unauthorized and unnecessary use of VRS; established a central telecommunications relay services (TRS) user registration database (TRS-URD) for VRS, which incorporates a centralized eligibility verification requirement to ensure accurate registration and verification of users, as well as per-call validation, to achieve more effective prevention of waste, fraud, and abuse; established procedures to prevent unauthorized changes of a user's default TRS provider; and established procedures to protect TRS users' customer proprietary network information (CPNI) from disclosure.

On March 23, 2017, the Commission released Structure and Practices of the Video Relay Services Program et al., FCC 17-26, published at 82 FR 17754, April 13, 2017, (2017 VRS Improvements Order), which among other things, allows VRS providers to assign TRS Numbering Directory 10-digit telephone numbers to hearing individuals for the limited purpose of making point-to-point video calls, and gives VRS providers the option to participate in an at-home call handling pilot program, subject to certain limitations, as well as recordkeeping and reporting requirements.

On May 15, 2019, the Commission released Structure and Practices of the Video Relay Service Program; Telecommunications Relay Services and Speech-to-Speech Services for Individuals with Hearing and Speech Disabilities, FCC 19-39, published at 84 FR 26364, June 6, 2019 (2019 VRS Program Management Order). The Commission further improved the structure, efficiency, and quality of the VRS program, reduced the risk of waste, fraud, and abuse, and ensured that the program makes full use of advances in commercially-available technology. These improvements include information collection requirements, including: The establishment of procedures to register enterprise and public videophones to the TRS-URD; and permitting Qualified Direct Video Calling (DVC) Entities to access the TRS Numbering Directory and establishing an application procedure to authorize such access, including rules governing DVC entities and entry of information in the TRS Numbering Directory and the TRS-URD.

On August 2, 2019, the Commission released Implementing Kari's Law and Section 506 of RAY BAUM'S Act; Inquiry Concerning 911 Access, Routing, and Location in Enterprise Communications Systems; Amending the Definition of Interconnected VoIP Service in Section 9.3 of the Commission's Rules, FCC 19-76, published at 84 FR 66716, December 5, 2019 (MLTS 911 and Dispatchable Location Order). The Commission amended its rules to ensure that the dispatchable location is conveyed to a Public Safety Answering Point (PSAP) with a 911 call, regardless of the technological platform used. Based on the directive in section 506 of RAY BAUM'S Act, the Commission adopted dispatchable location requirements that in effect modified the existing information collection requirements applicable to VRS, IP Relay, and covered IP CTS by improving the options for providing accurate location information to PSAPs as part of 911 calls.

Fixed internet-based TRS devices must provide automated dispatchable location. For non-fixed devices, when dispatchable location is not technically feasible, internet-based TRS providers may fall back to Registered Location or provide alternative location information. As a last resort, internet-based providers may route calls to Emergency Relay Calling Centers after making a good faith effort to obtain location data from all available alternative location sources. Dispatchable location means a location delivered to the PSAP with a 911 call that consists of the validated street address of the calling party, plus additional information such as suite, apartment or similar information necessary to adequately identify the location of the calling party. Automated dispatchable location means automatic generation of dispatchable location. Alternative location information is location information (which may be coordinate-based) sufficient to identify the caller's civic address and approximate in-building location, including floor level, in large buildings.

On January 31, 2020, the Commission released Structure and Practices of the Video Relay Service Program; Telecommunications Relay Services and Speech-to-Speech Services for Individuals with Hearing and Speech Disabilities, FCC 20-7, published at 85 FR 27309, May 8, 2020 (VRS At-Home Call Handling Order). The Commission amended its rules to convert the VRS at-home call handling pilot program into a permanent one, thereby allowing CAs to work from home. To ensure user privacy and call confidentiality and to help prevent waste, fraud, and abuse, the modified information collections include requirements for VRS providers to apply for certification to allow their communications assistants to handle calls while working at home; monitoring and oversight requirements; and reporting requirements.

List of Subjects

47 CFR Part 9

Communications; Communications common carriers, Communications equipment, Reporting and recordkeeping requirements, Satellites, Security measures, Telecommunications, Telephone.

47 CFR Part 64

Individuals with disabilities, Telecommunications, Telecommunications relay services.

Federal Communications Commission.
Marlene Dortch,
Secretary, Office of the Secretary.

For the reasons discussed in the preamble, the Federal Communications Commission amends 47 CFR part 9 as follows:

PART 9—911 REQUIREMENTS

1. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, unless otherwise noted.

§ 9.14 [Amended]

2. Amend § 9.14 by removing paragraph (f).

[FR Doc. 2020-21316 Filed 10-22-20; 8:45 am]

BILLING CODE 6712-01-P